SMALL BUSINESS ADMINISTRATION

Declaration of Military Reservist Economic Injury Disaster Loan #T201

As a result of the Declaration of National Emergency by Reason of Certain Terrorist Attacks at the World Trade Center, New York, New York, and the Pentagon, and the continuing and immediate threat of further attacks on the United States, President George W. Bush declares that the national emergency has existed since September 11, 2001. This notice establishes the application filing period for the Military Reservist Economic Injury Disaster Loan program. Effective September 11, 2001, small businesses employing military reservists may apply for economic injury disaster loans if those employees are called up to active duty during a period of military conflict existing on or after September 11, 2001, those employees are essential to the success of the small business daily operations and the business has suffered or is likely to suffer substantial economic injury as a result of the absence of the essential employee. The filing period for small businesses to apply for economic injury loan assistance under the Military Reservist Economic Injury Disaster Loan Program begins on the date the essential employee is ordered to active duty and ends on the date 90 days after the essential employee is discharged or released from active duty.

This Declaration includes the States of: Alabama, Florida, Georgia, Illinois, Indiana, Kentucky, Michigan, Minnesota, Mississippi, North Carolina, Ohio, South Carolina, Tennessee, and Wisconsin.

Applications for loans for military reservist economic injury loans may be obtained and filed at the address listed below: U.S. Small Business Administration, Disaster Area 2 Office, One Baltimore Place, Suite 300, Atlanta, GA 30308, 1-800-359-2227.

The interest rate for eligible small businesses is 4 percent. The number assigned for economic injury is T20100.

(Catalog of Federal Domestic Assistance Program No. 59002.)

Dated: September 25, 2001.
Herbert L. Mitchell,
Associate Administrator for Disaster Assistance.

[FR Doc. 01-24554 Filed 10-1-01; 8:45 am]

BILLING CODE 8025-01-P